FEDERAL MINE SAFETY AND HEALTH REVIEW COMMISSION

Sunshine Act Meeting

TIME AND DATE: 10:00 a.m., Wednesday, October 7, 2020.

PLACE: This argument will be conducted through a videoconference involving all Commissioners. Any person wishing to listen to the proceeding may call the number listed below.

STATUS: Open.

MATTERS TO BE CONSIDERED: The Commission will hear oral argument in the matter Secretary of Labor v. Consol Pennsylvania Coal Co., LLC, Docket No. PENN 2018-0169. (Issues include whether the Judge erred in ruling that a citation was “significant and substantial” and in finding that two other citations should be upheld.)

Any person attending this oral argument who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Phone Number for Listening to Meeting: 1-(866) 236-7472.

Passcode: 678-100.

Authority: 5 U.S.C. 552b.

Dated: September 22, 2020.
Sarah L. Stewart,
Deputy General Counsel.

[FR Doc. 2020-21277 Filed 9-24-20; 11:15 am]

BILLING CODE 6735-01-P